DEPARTMENT OF HOMELAND SECURITY

Federal Emergency Management Agency

[Docket ID FEMA-2016-0002; Internal Agency Docket No. FEMA-B-1604]

Proposed Flood Hazard Determinations

AGENCY: Federal Emergency Management Agency; DHS.

ACTION: Notice; correction.

SUMMARY: On April 4, 2016, FEMA published in the Federal Register a proposed flood hazard determination notice that contained two erroneous tables. This notice provides corrections to those tables, to be used in lieu of the information published at 81 FR 19231-19232. The tables provided here represents the proposed flood hazard determinations and communities affected for San Mateo County, California, and Incorporated Areas.

DATES: Comments are to be submitted on or before August 3, 2016.

ADDRESSES: The Preliminary Flood Insurance Rate Map (FIRM), and where applicable, the Flood Insurance Study (FIS) report for each community are available for inspection at both the online location and the respective Community Map Repository address listed in the table below. Additionally, the current effective FIRM and FIS report for each community are accessible online through the FEMA Map Service Center at www.msc.fema.gov for comparison.

You may submit comments, identified by Docket No. FEMA-B-1604, to Rick Sacbibit, Chief, Engineering Services Branch, Federal Insurance and Mitigation Administration, FEMA, 500 C Street SW., Washington, DC 20472, (202) 646-7659, or (email) patrick.sacbibit@fema.dhs.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed in the table below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://floodsrp.org/pdfs/srp_fact_sheet.pdf.

The communities affected by the flood hazard determinations are provided in the tables below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 81 FR 19231-19232 in the April 4, 2016, issue of the Federal Register, FEMA published two tables titled “San Mateo County, California, and Incorporated Areas”. These tables contained inaccurate information as to the preliminary dates featured in the tables.

In this document, FEMA is publishing tables containing the accurate information. The information provided below should be used in lieu of that previously published for San Mateo County, California, and Incorporated Areas.

(Catalog of Federal Domestic Assistance No. 97.022, “Flood Insurance.”)

Dated: April 12, 2016.
Roy E. Wright,
Deputy Associate Administrator for Insurance and Mitigation, Department of Homeland Security, Federal Emergency Management Agency.

I. Non-watershed-based studies:

Community | Community map repository address
San Mateo County, California, and Incorporated Areas
Maps Available for Inspection Online at: http://www.fema.gov/preliminaryfloodhazarddata
Project: 11-09-0852S Preliminary Date: September 14, 2015
City of Daly City | Public Works, Engineering Division, 333 90th Street, Daly City, CA 94015.
City of Half Moon Bay | City Hall, 501 Main Street, Half Moon Bay, CA 94019.
City of Pacifica | Engineering Division, 151 Milagra Drive, Pacifica, CA 94044.
Unincorporated Areas of San Mateo County | Planning and Building Department, 455 County Center, Redwood City, CA 94063.
San Mateo County, California, and Incorporated Areas
Maps Available for Inspection Online at: http://www.fema.gov/preliminaryfloodhazarddata
Project: 11-09-1227S Preliminary Date: August 13, 2015
City of Belmont | Public Works Department, One Twin Pines Lane, Belmont, CA 94002.
City of Brisbane | Public Works, 50 Park Place, Brisbane, CA 94005.
City of Burlingame | City Hall, 501 Primrose Road, Burlingame, CA 94010.
City of East Palo Alto | Community and Economic Development Department, 1960 Tate Street, East Palo Alto, CA 94303.
City of Foster City | Public Works, 610 Foster City Boulevard, Foster City, CA 94404.
City of Menlo Park | City Hall, 701 Laurel Street, Menlo Park, CA 94025.
City of Millbrae | City Hall, 621 Magnolia Avenue, Millbrae, CA 94030.
City of Redwood City | City Hall, 1017 Middlefield Road, Redwood City, CA 94063.
City of San Bruno | Public Works, 567 El Camino Real, San Bruno, CA 94066.
City of San Carlos | Building Division, 600 Elm Street, San Carlos, CA 94070.
City of San Mateo | Public Works Department, 330 West 20th Avenue, San Mateo, CA 94403.
City of South San Francisco | City Hall, 400 Grand Avenue, South San Francisco, CA 94080.
Unincorporated Areas of San Mateo County | Planning and Building Department, 455 County Center, Redwood City, CA 94063.

[FR Doc. 2016-10484 Filed 5-4-16; 8:45 am]

BILLING CODE 9110-12-P